DEPARTMENT OF COMMERCE

International Trade Administration

[A-475-059]

Pressure Sensitive Plastic Tape From Italy: Final Results of Antidumping Duty Changed Circumstances Review

AGENCY: Import Administration, International Trade Administration, Department of Commerce.

DATES: Effective Date: May 18, 2010.

SUMMARY: On February 22, 2010, the Department of Commerce (the Department) preliminarily determined that Evotape S.p.A was the successor-in-interest to Tyco Adhesives Italia S.p.A. (Tyco), and that Evotape Packaging S.r.l. (Evotape Packaging) and Evotape Masking S.r.l. (Evotape Masking) are both successors-in-interest to Evotape S.p.A for purposes of determining antidumping liability. See Pressure Sensitive Plastic Tape from Italy: Preliminary Results of Antidumping Duty Changed Circumstances Review, 75 FR 8925 (February 26, 2010) (Preliminary Results). We confirm our preliminary determination in these final results of changed circumstances review.

FOR FURTHER INFORMATION CONTACT: Terre Keaton Stefanova or Rebecca Trainor, AD/CVD Operations, Office 2, Import Administration, International Trade Administration, U.S. Department of Commerce, 14th Street and Constitution Avenue, NW., Washington, DC 20230; telephone: (202) 482-1280 and (202) 482-4007, respectively.

SUPPLEMENTARY INFORMATION:

Background

On July 27, 2009, Evotape Packaging requested that the Department conduct an expedited changed circumstances review to determine that it is the successor-in-interest to Tyco for purposes of determining antidumping liability.¹ On September 10, 2009, the Department initiated a changed circumstances review but did not expedite the review, as requested by Evotape Packaging, because questions remained as to the factual claims forming the basis of the change circumstances review request. See Pressure Sensitive Plastic Tape from Italy: Notice of Initiation of Antidumping Duty Changed Circumstances Review, 74 FR 47555 (September 16, 2009) (Initiation Notice). On February 22, 2010, the Department preliminarily determined that Evotape S.p.A was the successor-in-interest to Tyco, and that Evotape Packaging and Evotape Masking were both successors-in-interest to Evotape S.p.A. As the ultimate successors-in-interest producing in-scope merchandise, we preliminarily found that Evotape Packaging and Evotape Masking should be assigned the antidumping duty cash deposit rate that is currently in effect for Tyco. See Preliminary Results.

¹ The cash deposit rate currently applicable to Tyco is zero percent. The all-others rate is 10 percent.

On March 12, 2010, we received comments from 3M Company (3M), a U.S. producer of the domestic like product and an interested party in this review. On March 18, 2010, we received rebuttal comments from Evotape Packaging and its affiliates Evotape Masking and Evotape S.p.A (collectively Evotape). For further discussion, see “Analysis of Comments Received” section below.

Scope of the Finding

The product covered by the finding is pressure sensitive plastic tape (PSP Tape) measuring over one and three-eighths inches in width and not exceeding four mils in thickness, currently classifiable under subheadings 3919.10.20 and 3919.90.50 of the Harmonized Tariff Schedule of the United States (HTSUS). The HTSUS subheadings are provided for convenience and for customs purposes. The written description remains dispositive.

Analysis of Comments Received

3M argues that because Evotape Masking has stated on the record that it does not ship or sell the subject merchandise to the United States, and has no future plans to do so, this changed circumstances review has been a purely theoretical exercise, and the Department has wasted its resources by granting a meaningless changed circumstances review request. On the other hand, 3M argues, if Evotape is indeed interested in the U.S. market, and has misled the Department regarding its intentions, the credibility of the information on the record is called into question. Under either scenario, according to 3M, there appears to be no reason to grant Evotape's changed circumstances request at this time. (See Pressure Sensitive Tape from Italy: Comments of 3M Company on the Preliminary Results of the Changed Circumstances Review (March 12, 2010)).

Evotape asserts that 3M has not challenged any of the Department's preliminary findings, but opposes Evotape's changed circumstances request at this late date based solely on the representation of Evotape Masking that it has no intention to ship subject merchandise to the United States. Evotape asserts further that Evotape Packaging originally requested the changed circumstances review because it is the entity that intends to ship PSP Tape to the United States. Evotape contends, however, that it was appropriate, as a matter of law, for the Department to have ruled as it did with regard to both Evotape Packaging and Evotape Masking, even though Evotape Masking has no intention to export subject merchandise to the United States, because both companies are successors-in-interest to Evotape S.p.A. Evotape adds that, unlike in an annual administrative review which requires U.S. entry of a respondent's merchandise during the review period for that respondent to have standing to request the review, there is no requirement in the statute or in the Department's regulations mandating that an applicant for a changed circumstances review possess a present or future intention to ship subject merchandise to the United States. Evotape argues that the only requirement is that the applicant be an interested party, which is defined to include a “foreign manufacturer, producer, or exporter * * * of the subject merchandise.” See sections 771(9)(A) and 751(b) of the Tariff Act of 1930, as amended (the Act), and 19 CFR 351.216. Evotape concludes that because both Evotape Packaging and Evotape Masking are producers of in-scope merchandise, a fact which is undisputed, either or both of these companies were entitled to file a changed circumstances review request. Accordingly, it argues, 3M's opposition is without merit. As there has been no challenge to the substance of the Department's preliminary determination, Evotape requests that the Department issue its final determination, consistent with its preliminary determination. (See Evotape's Reply to 3M's Post-Preliminary Determination Comments: Changed Circumstances Review in Pressure Sensitive Tape from Italy Case No. A-475-059 (March 18, 2010)).

The Department's Position

As stated in the Initiation Notice, the Department initiated this changed circumstances review because Evotape presented sufficient information to warrant doing so under section 751(b)(1) of the Act and 19 CFR 351.216 (see Initiation Notice, 74 FR 47555). We agree with Evotape that neither the statute nor the Department's regulations make the initiation and conduct of a changed circumstances review contingent upon an interested party's intent to export the subject merchandise to the United States. Notwithstanding this fact, however, we note that at this time both Evotape Packaging and Evotape Masking are interested parties under section 771(9)(A) of the Act, as both produce PSP Tape, and Evotape Packaging exports it to the United States. Therefore, we have properly conducted this changed circumstances review in accordance with the statute and our regulations, and have concluded it based on the successor-in-interest analysis set out in the Preliminary Results.

Final Results of Changed-Circumstances Review

For the reasons stated in the Preliminary Results, we continue to find that Evotape S.p.A is the successor-in-interest to Tyco, and that Evotape Packaging and Evotape Masking are both successors-in-interest to Evotape S.p.A. Thus, Evotape Packaging and Evotape Masking should receive the same antidumping duty rate with respect to PSP Tape as Tyco. The cash deposit determination from this changed circumstances review will apply to all shipments of the subject merchandise entered, or withdrawn from warehouse, for consumption on or after the date of publication of the final results of this changed circumstances review. This deposit rate shall remain in effect until publication of the final results of the next administrative review in which Evotape participates.

Notification

This notice serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

We are issuing and publishing these final results and notice in accordance with sections 751(b)(1) and 777(i)(1) and (2) of the Act, and 19 CFR 351.216 and 351.221(c)(3).

Dated: May 12, 2010.
Ronald K. Lorentzen,
Deputy Assistant Secretary for Import Administration.

[FR Doc. 2010-11866 Filed 5-17-10; 8:45 am]

BILLING CODE 3510-DS-P